DEPARTMENT OF THE INTERIOR

Bureau of Land Management

[ID-957-1120-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet certain administrative needs of the Bureau of Land Management. The lands we surveyed are:

The plat representing the dependent resurvey of portions of the west boundary and subdivisional lines, the subdivision of section 30, the metes-and-bounds survey of the center line of a strip of land in section 30, and the metes-and-bounds survey of Parcels A, C, and D in section 30, T. 3 N., R. 4 E., Boise Meridian, Idaho, was accepted November 13, 2001.

The plat representing the dependent resurvey of a portion of the subdivision of section 20, and the survey of the 2001 meanders of Crow Island and two unnamed islands in the Snake River, T. 7 N., R. 5 W., Boise Meridian, Idaho, was accepted December 7, 2001.

The plat representing the entire survey record of the dependent resurvey of a portion of the 1910 meander lines of the right bank of the South Fork of the Payette River, and the metes-and-bounds survey of lot 10, in section 20, T. 9 N., R. 4 E., Boise Meridian, Idaho, was accepted June 14, 2002.

The plats constituting the entire survey record of the dependent resurvey of a portion of the subdivisional lines, the subdivision of section 26, and the metes-and-bounds survey of Parcel A and two easements in section 26, in T. 5 N., R. 1 E., Boise Meridian, Idaho, was accepted February 4, 2003.

The plats representing the dependent resurvey of a portion of the Idaho-Washington State Boundary, a portion of the subdivisional lines, and the subdivision of section 24, in T. 46 N., R. 6 W., Boise Meridian, Idaho, were accepted April 1, 2003.

The plat constituting the entire survey record of the dependent resurvey of a portion of the south and west boundaries and a portion of the subdivisional lines, designed to restore the corners in their true original locations according to the best available evidence, and a metes-and-bounds survey of a portion of the Craters of the Moon National Monument in sections 30 and 31, in T. 6 S., R. 27 E., Boise Meridian, Idaho, was accepted April 3, 2003.

The plat representing the dependent resurvey and metes-and-bounds survey of a portion of lot 13, section 31, in T. 2 N., R. 4 W., Boise Meridian, Idaho, was accepted April 14, 2003.

The plat representing the dependent resurvey of a portion of the subdivisional lines, and the 1879 meander lines of the left bank of the Snake River in section 7, and the survey of a fixed and limiting boundary in sections 7 and 18, and the survey of the 2002 meander lines of the left bank of the Snake River in sections 7 and 18, in T. 5 N., R. 38 E., Boise Meridian, Idaho, was accepted April 17, 2003.

SUMMARY: The Bureau of Land Management (BLM) will file the plat of survey of the lands described below in the BLM Idaho State Office, Boise, Idaho, 30 days from the date of publication in the Federal Register.

The plat representing the dependent resurvey of portions of the 5½ Standard Parallel North, on the south boundary of Township 26 North, Range 1 East, the subdivisional lines, the boundaries of certain mineral and segregation surveys in sections 11, 12, and 14, the record meanders of the Salmon River in sections 2 and 11, and the subdivision of section 11, and the further subdivision of section 11, and subdivision of section 2, and survey of a portion of the 2000 meanders of the Salmon River in sections 2 and 11, and the Salmon River Scenic Easement boundary line through the S½ of the SE¼ of the NW¼ of section 2, T. 25 N., R. 1 E., Boise Meridian, Idaho, was accepted May 14, 2003.

Dated: May 16, 2003.
Duane E. Olsen,
Chief Cadastral Surveyor for Idaho.

[FR Doc. 03-12835 Filed 5-21-03; 8:45 am]

BILLING CODE 4310-GG-P